Title 3—

The President

Proclamation 10350 of March 21, 2022

National Agriculture Day, 2022

By the President of the United States of America

A Proclamation

On National Agriculture Day, we recognize the invaluable contributions of American farmers, farmworkers, ranchers, fishers, foresters, and other agricultural workers, who have practiced their craft for generations and touch the lives of Americans every day. Their tireless efforts growing crops, raising livestock, and distributing food, fuel, and fiber sustain America and the entire world. They put meals on our plates, clothes on our backs, and roofs over our heads. Along the way, America's agricultural workers serve as stewards of the land; ensure the safety and health of animals, plants, and people; and strengthen our rural communities with economic opportunities.

Throughout the COVID-19 pandemic, the country's agricultural workers have stepped up and stayed resilient, adapting their operations to ensure that every family has enough food on the table. To support their efforts and ensure a stable food supply, our pandemic economic recovery assistance supports our agricultural businesses, whose operations were among the hardest hit by market disruptions. We are building a food system that will be more competitive, balanced, and equitable—made possible by expanded and fairer markets, investments that sharpen farmers' competitive edge, and an emphasis on more affordable, healthy food for consumers that is produced closer to home.

My Administration is also committed to protecting farmers—including small family farms that are vital to our food system—by bolstering competition across the industry and around the world. We are taking action to enforce antitrust laws, move agriculture products to market more expeditiously, expand new agriculture processing capacity, and strengthen our supply chain resiliency. We are also eliminating systemic barriers that have denied underserved producers consistent, fair, and equal access to opportunities for far too long. My Administration remains determined to advance an American agriculture sector that works for everyone.

National Agriculture Day also celebrates the farmers, ranchers, fishers, and foresters who adopt agricultural practices that help combat the climate crisis. Extreme weather events, including droughts, floods, wildfires, tornadoes, hurricanes, and other climate-related disasters, have had a devastating impact on American agriculture. My Administration is committed to helping the agriculture sector enhance its resiliency and sustainability while increasing its productivity and profitability. By working together, we can ensure that American agriculture continues to lead the world in production, that our food supply is secure, and that our economy remains strong.

NOW, THEREFORE, I, JOSEPH R. BIDEN JR., President of the United States of America, by virtue of the authority vested in me by the Constitution and the laws of the United States, do hereby proclaim March 22, 2022, as National Agriculture Day. I call upon all Americans to join me in recognizing and reaffirming our commitment to and appreciation for our country's farmers, ranchers, foresters, farmworkers, and all those who work in the agriculture sector across the Nation.

IN WITNESS WHEREOF, I have hereunto set my hand this twenty-first day of March, in the year of our Lord two thousand twenty-two, and of the Independence of the United States of America the two hundred and forty-sixth.

[FR Doc. 2022-06393

Filed 3-23-22; 11:15 am]

Billing code 3395-F2-P